NATIONAL SCIENCE FOUNDATION

National Science Board; Task Force on Cost Sharing; Committee on Strategy and Budget; Sunshine Act Meetings; Notice

The National Science Board's Task Force on Cost Sharing of the Committee on Strategy and Budget pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Date and Time: December 3, 2008 from 4 p.m. to 5 p.m.

Subject Matter: Discussion of Draft Report.

Status: Open.

Place: This meeting will be held by teleconference originating at the National Science Board Office, National Science Foundation, 4201 Wilson Blvd., Arlington, VA 22230. Room 130 will be available to the public to listen to this teleconference meeting.

Please refer to the National Science Board Web site (http://www.nsf.gov/nsb) for information or schedule updates, or contact: Jennifer Richards, National Science Board Office, 4201 Wilson Blvd., Arlington, VA 22230. Telephone: (703) 292-7000.

Ann Ferrante,
Writer-Editor.

[FR Doc. E8-28086 Filed 11-24-08; 8:45 am]

BILLING CODE 7555-01-P